DEPARTMENT OF HOUSING AND URBAN DEVELOPMENT

[Docket No. FR-5534-N-01]

Federal Housing Administration (FHA) Mortgage Insurance Premiums for Multifamily Housing Programs, Health Care Facilities and Hospitals and Credit Subsidy Obligations for Fiscal Year (FY) 2011

AGENCY: Office of the Assistant Secretary for Housing—Federal Housing Commissioner, HUD.

ACTION: Notice.

SUMMARY: This notice announces the mortgage insurance premiums (MIPs) for FHA Multifamily Housing, Health Care Facilities, and Hospital Mortgage Insurance programs that have commitments to be issued or reissued in FY 2011. The FY 2011 MIPs are the same as in FY 2010. For the third consecutive fiscal year, the MIPs remain unchanged for FHA's mortgage insurance programs. In addition to announcing MIPs for FY 2011, this notice announces that the risk categories incurring positive credit subsidy obligations for firm commitments issued or reissued in FY 2011 are the same as those in FY 2010. There are three positive credit subsidy risk categories: (1) Section 221(d)(3) new construction/substantial rehabilitation for nonprofit/cooperatives; (2) section 241(a) supplemental loans for apartments only; and (3) section 223(d) operating loss loans.

DATES: Effective Date: July 11, 2011.

FOR FURTHER INFORMATION CONTACT: Iris Agubuzo, Office of Multifamily Development, Office of Housing, Department of Housing and Urban Development, 451 7th Street, SW, Washington, DC 20410-8000; telephone: 202-402-2662 (this is not a toll-free number). Hearing- or speech-impaired individuals may access these numbers through TTY by calling the Federal Relay Service at 800-877-8339 (this is a toll-free number).

SUPPLEMENTARY INFORMATION:

I. Background

HUD's multifamily housing mortgage insurance regulation at 24 CFR 207.254 provides as follows:

Notice of future premium changes will be published in the Federal Register. The Department will propose MIP changes for multifamily mortgage insurance programs and provide a 30-day public comment period for the purpose of accepting comments on whether the proposed changes are appropriate.

Under this regulation, HUD is required to publish a notice for public comment only when there are premium “changes.” Since HUD is not seeking to implement any premium changes for FY 2011 for the multifamily mortgage insurance programs, health care facilities, and hospital insurance programs listed in this notice, a notice for public comment is not required. HUD is issuing this notice to ensure clarity on the appropriate MIPs charged for FY 2011, and is not seeking public comments.

II. Low-Income Housing Tax Credits

MIP rates for many FHA mortgage insurance programs depend on whether or not the sponsor is combining low-income housing tax credits (LIHTC) with the FHA-insured loan. The LIHTC program is an indirect Federal subsidy used to finance the development of affordable rental housing for low-income households.

III. MIPs for FHA's Mortgage Insurance Programs for FY2011

In the chart below, this notice announces the MIPs which will be in effect during FY 2011 for the multifamily housing health care facilities, and hospital mortgage insurance programs-authorized under the National Housing Act (12 U.S.C. 1713 et seq.). The multifamily housing programs are administered by FHA's Office of Multifamily Housing Programs. The health care facilities and the hospital insurance programs are administered by FHA's Office of Healthcare Programs. The programs of these offices are listed separately on the chart.

Credit Subsidy

This notice also announces that a credit subsidy obligation continues to be required for the three sections of the National Housing Act listed below. However, if the mortgagor's equity is produced from LIHTC for the programs authorized under section 221(d)(3) or section 241(a) of the National Housing Act, a credit subsidy obligation will not be required. For the loans requiring a credit subsidy obligation, the program office inserts a special clause into the firm commitment or an invitation pertaining to a Site Appraisal and Market Analysis (SAMA)/Feasibility/Multifamily Accelerated Processing (MAP) letter. The clause states that the firm commitment is contingent upon availability of funds.

• Section 221(d)(3) new construction/substantial rehabilitation for nonprofit/cooperatives.

• Section 223(d) operating loss loans for both apartments and health care facilities.

• Section 241(a) supplemental loans for additions or improvements for apartments only.

The mortgage insurance premiums to be in effect for FHA firm commitments issued or reissued in FY 2011 are shown in the chart below.

Fiscal Year 2011 MIP Rates Multifamily Housing, Health Care Facilities and Hospital Insurance Programs
| Basis points
FHA Apartments
207 Multifamily Housing New Construction/Sub Rehab without LIHTC | 50
207 Multifamily Housing New Construction/Sub Rehab with LIHTC | 45
207 Manufactured Home Parks without LIHTC | 50
207 Manufactured Home Parks with LIHTC | 45
221(d)(3) New Construction/Substantial Rehabilitation (NC/SR) for Nonprofit/Cooperative mortgagor without LIHTC | 80
221(d)(3) Limited dividend with LIHTC | 45
221(d)(4) NC/SR without LIHTC | 45
221(d)(4) NC/SR with LIHTC | 45
220 Urban Renewal Housing without LIHTC | 50
220 Urban Renewal Housing with LIHTC | 45
213 Cooperative | 50
207/223(f) Refinance or Purchase for Apartments without LIHTC | *45
207/223(f) Refinance or Purchase for Apartments with LIHTC | *45
223(a)(7) Refinance of Apartments without LIHTC | 45
223(a)(7) Refinance of Apartments with LIHTC | 45
223d Operating Loss Loan for Apartments | 80
241(a) Supplemental Loans for Apartments/coop without LIHTC | 80
241(a) Supplemental Loans for Apartments/coop with LIHTC | 45
FHA Health Care Facilities (Nursing Homes, ALF & B&C)
232 NC/SR Health Care Facilities without LIHTC | 57
232 NC/SR—Assisted Living Facilities with LIHTC | 45
231 Elderly Housing without LIHTC | 50
231 Elderly Housing with LIHTC | 45
232/223(f) Refinance for Health Care Facilities without LIHTC | *50
232/223(f) Refinance for Health Care Facilities with LIHTC | *45
223(a)(7) Refinance of Health Care Facilities without LIHTC | 50
223(a)(7) Refinance of Health Care Facilities with LIHTC | 45
223d Operating Loss Loan for Health Care Facilities | 80
241(a) Supplemental Loans for Health Care Facilities without LIHTC | 57
241(a) Supplemental Loans for Health Care Facilities with LIHTC | 45
FHA Hospitals
242 Hospitals | 50
223(a)(7) Refinance of Existing FHA-insured Hospital | 50
223(f) Refinance or Purchase of Existing Non-FHA-insured Hospital | 50
241(a) Supplemental Loans for Hospitals | 50
* The first year MIP for the Section 207/223(f) loans for apartments is 100 basis (one percent) points for the first year, as specified in sections 24 CFR 207.252b(a). The first year MIP for a Section 232/223(f) health care facility remains at 100 basis points (one percent).

Dated: July 1, 2011.
Robert C. Ryan,
Acting Assistant Secretary for Housing—Federal Housing Commissioner.

[FR Doc. 2011-17233 Filed 7-8-11; 8:45 am]

BILLING CODE 4210-67-P